ENVIRONMENTAL PROTECTION AGENCY

[ER-FRL-6250-3]

Environmental Impact Statements and Regulations; Availability of EPA Comments

Availability of EPA comments prepared January 03, 2000 Through January 07, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 09, 1999 (63 FR 17856).

Draft EISs

ERP No. D-AFS-L65336-ID Rating EC1, Brown Creek Timber Sale Project, Implementation, Payette National Forest, New Meadow Ranger District, Adam County, ID.

Summary: EPA expressed environmental concerns regarding cutting timber in the Patrick Butte Roadless Area and recommended the alternative which avoids entry into the roadless area.

ERP No. D-COE-K36051-AZ Rating EC2, Rio de Flag Flood Control Study, Improvement Flood Protection, City of Flagstaff, Coconino County, AZ.

Summary: EPA expressed environmental concerns over potential impacts to wetlands and requested additional information regarding the extent of wetlands affected by the proposed project and measures to avoid and minimize impacts to wetlands.

ERP No. D-IBR-K64018-CA Rating LO, Lower Mokelumne River Restoration Program, Implementation, Resource Management Plan, San Joaquin County, CA.

Summary: EPA has no objections. The project provides benefits to fisheries and the Lower Mokelumne River ecosystem.

ERP No. D-NAS-A11075-00 Rating LO, Mars Surveyor 2001 Mission, Implementation, Orbit Spacecraft Launched from Vandenberg Air Force Base, CA; Delta II 7925 Launch Vehicle in March/April 2001 and a Lander/Rover Spacecraft Launched from Cape Canaveral Air Station, FL; CA and FL.

Summary: EPA has no objection to the proposed action.

Final EISs

ERP No. F-AFS-L65320-00 Targhee National Forest Open Road and Open Motorized Trail Analysis, To Implement a new Travel Plan, several counties, ID and Lincoln and Teton Counties, WY.

Summary: The final EIS addressed most of EPA's comments on the draft EIS. However, our comment on the regulations found at 36 CFR 295 was not addressed and EPA remains concerned about potential environmental impacts from roads and opened motorized trails.

ERP No. F-NPS-H65006-NB Homestead National Monument of America, General Management Plan, Implementation, Gage County, NB.

Summary: EPA has no objections to the proposed General Management Plan.

ERP No. FA-FHW-H40108-IA. Central Business District Loop Arterial Construction, Harding Road and I-235 to US 65 at Scott Avenue, Funding and 404 Permit, Polk County, IA

Summary: EPA concluded that the project modifications posed little impact to the environment. Additional noise testing may be warranted as the project progresses.

Regulations

ERP No. R-FAA-A59013-00 FAA Order 1050.1E, Policies and Procedures, Includes Additions or changes to the current version of FAA Order 1050.1D.

Summary: EPA expressed environmental concern that certain sections of the Order were either not in agreement or are misinterpretations of the CEQ regulations. EPA requested that those sections be rewritten.

Dated: January 18, 2000.
B. Katherine Biggs,
Associate Director, NEPA Compliance Division, Office of Federal Activities.

[FR Doc. 00-1520 Filed 1-20-00; 8:45 am]

BILLING CODE 6560-50-U